FEDERAL COMMUNICATIONS COMMISSION

47 CFR Part 54

[WC Docket Nos. 19-195 and 11-10; Report No. 3139; FRS 16468]

Petitions for Reconsideration of Action in Rulemaking Proceeding

AGENCY: Federal Communications Commission.

ACTION: Petitions for Reconsideration; correction.

SUMMARY: The Federal Communications Commission (Commission) published a document in the Federal Register of January 30, 2020, regarding Petitions for Reconsideration filed in the Commission's rulemaking proceeding. The document contained the incorrect deadline for filing replies to an opposition to the Petitions. This document corrects the deadline for replies to an opposition to the Petitions.

DATES: The proposed rule published on January 30, 2020, at 85 FR 5366, is corrected as of February 20, 2020.

ADDRESSES: Federal Communications Commission, 445 12th Street SW, Washington, DC 20554.

FOR FURTHER INFORMATION CONTACT: Michael Ray, Attorney Advisor, Wireline Competition Bureau, Competition Policy Division, (202) 418-0357.

SUPPLEMENTARY INFORMATION:

Correction

In the Federal Register of January 30, 2020, in FR Doc. 2020-01657, on page 5366, in the first column, correct the DATES section to read:

DATES: Oppositions to the Petitions must be filed on or before February 14, 2020. Replies to an opposition must be filed on or before February 24, 2020.

Federal Communications Commission.
Marlene Dortch,
Secretary, Office of the Secretary.

[FR Doc. 2020-03400 Filed 2-19-20; 8:45 am]

BILLING CODE 6712-01-P